Title 3—

The President

Proclamation 10671 of November 9, 2023

American Education Week, 2023

By the President of the United States of America

A Proclamation

The promise of America has always been tied to the promise of our public education. This American Education Week, we celebrate our schools as beacons of hope and possibility, pillars of our communities, and cornerstones of our democracy. We recommit to investing in all the schools, educators, and staff—the kite strings that keep our national ambitions aloft.

A great education opens doors and changes lives. From our astronauts, artists, scientists, and software developers to our engineers, entrepreneurs, manufacturers, and medical professionals, countless Americans first discovered their potential in our public schools. Many further honed their talents in our universities, community colleges, Registered Apprenticeship programs, and career and technical education programs. That is what makes our Nation one of possibilities: Here in the United States everyone has the chance to learn, grow, and pursue their dreams, no matter who they are or where they grew up. But there is more we can still do to ensure every child has a fair shot. Despite heroic efforts by our Nation's teachers, the pandemic further deepened existing achievement gaps after years of flat or declining achievement in math and reading nationwide.

That is why my Administration has secured a historic $130 billion for America's K-12 schools. This funding has put more teachers in our classrooms and more counselors, social workers, and other staff in our schools. Additionally, this funding is providing high-quality tutoring, supporting record expansions of summer and after-school programming, improving air quality in schools, addressing environmental and safety needs in aging school buildings, and creating other critical initiatives designed to support our students. We also recognize that our students cannot thrive at school unless they are healthy and safe. The American Rescue Plan also made our country's biggest-ever investment in mental health and substance use programs, supplying the resources to recruit, train, and support more providers at the State and local levels—including in our schools. I also signed the Bipartisan Safer Communities Act into law—the first major Federal gun safety legislation passed in nearly 30 years, getting us closer to a world where every school in America is free from the threat of gun violence. This legislation also included historic levels of funding to address youth mental health, including $2 billion to create safe, inclusive learning environments for students and hire and train more mental health professionals for schools, which is where students are most likely to receive these crucial services. My Administration also released a national strategy to end hunger and reduce diet-related diseases in America by 2030—including by advancing a pathway to provide free, healthy school meals for all children.

We are fighting for our youngest learners too. We know that if we start early in both reading and math and make kindergarten a sturdy bridge between the early years and early grades, we set the stage for their lasting academic success. In fact, providing America's children with a strong foundation during their first 5 years can form the basis for lifelong health and well-being as well as achievement in education and their future careers. I will continue to press for high-quality, free preschool for all three- and four-year-olds.

My Administration also secured nearly $40 billion for colleges and universities in the American Rescue Plan. Importantly, we have invested billions of dollars in Historically Black Colleges and Universities, Tribal Colleges and Universities, and Minority Serving Institutions, such as Hispanic-Serving Institutions and Asian American and Native American Pacific Islander-Serving Institutions. I have made it a priority to make college more affordable for Americans, and have worked with the Congress to increase the maximum Pell Grant by $900 since the beginning of my Administration, helping over 6 million eligible students pay for school. Further, my Administration has approved $127 billion in student loan debt relief for nearly 3.6 million borrowers—more than any President in history. We have also fixed the Public Service Loan Forgiveness program so that borrowers who go into public service, including public school teachers, get the debt relief they have earned. Borrowers who work in public service can apply for the Public Service Loan Forgiveness program at www.studentaid.gov/pslf. Our SAVE plan, once fully implemented, will make student loan repayment more affordable than ever before, slashing payments to $0 for borrowers who earn less than about $15 an hour, saving them over $1,000 a year, and ending the runaway student loan interest responsible for ballooning balances. Enrolling in SAVE takes less than 10 minutes.

While we are making historic investments in colleges and universities, we also believe that every person in our Nation deserves access to the American Dream, whether they have a college degree or not. That is why we have invested more in Registered Apprenticeships and technical career training programs than any administration in history. These programs empower workers to earn while they learn and offer them a path toward good-paying jobs. In addition, the Departments of Education and Labor are collaborating to expand Registered Apprenticeships for educators. To help raise a new generation of talented educators from underrepresented backgrounds, we are working to increase high-quality teacher preparation programs and strengthen and diversify the teacher pipeline.

During American Education Week, we recognize the critical role education plays in realizing the defining creed of our Nation—that we are a land of possibilities. We celebrate all the dedicated educators, school counselors, nurses, bus drivers, security guards, custodians, cafeteria workers, and other school staff, who keep our schools running and support our students' health, safety, and success. Together, we will ensure that every student has the resources and opportunities they need to thrive.

NOW, THEREFORE, I, JOSEPH R. BIDEN JR., President of the United States of America, by virtue of the authority vested in me by the Constitution and the laws of the United States, do hereby proclaim November 12 through November 18, 2023, as American Education Week. I call upon all Americans to mark this week with appropriate programs, ceremonies, and activities honoring those who devote their talents and energies to helping our children reach their full potential and to building school communities where all students feel they belong.

IN WITNESS WHEREOF, I have hereunto set my hand this ninth day of November, in the year of our Lord two thousand twenty-three, and of the Independence of the United States of America the two hundred and forty-eighth.

[FR Doc. 2023-25338

Filed 11-14-23; 8:45 am]

Billing code 3395-F4-P